NUCLEAR REGULATORY COMMISSION

[Project No. 753; NRC-2012-0071]

Model Safety Evaluation for Plant-Specific Adoption of Technical Specifications Task Force Traveler TSTF-522, Revision 0, “Revise Ventilation System Surveillance Requirements To Operate for 10 Hours per Month,” Using the Consolidated Line Item Improvement Process

AGENCY: Nuclear Regulatory Commission.

ACTION: Notice of availability.

SUMMARY: The U.S. Nuclear Regulatory Commission (NRC or the Commission) is announcing the availability of Technical Specifications (TSs) Task Force (TSTF) Traveler TSTF-522, Revision 0, “Revise Ventilation System Surveillance Requirements to Operate for 10 Hours per Month,” for plant-specific adoption. Additionally, the NRC staff finds the proposed TS (Volume 1) and TS Bases (Volume 2) changes in Traveler TSTF-522 acceptable for inclusion in the following Standard Technical Specifications (STS): NUREG-1430, “[STS] Babcock and Wilcox Plants,” NUREG-1431 “[STS] Westinghouse Plants,” NUREG-1432 “[STS] Combustion Engineering Plants,” NUREG-1433 “[STS] General Electric BWR/4 Plants,” NUREG-1434, “[STS] General Electric BWR/6 Plants.”

ADDRESSES: Please refer to Docket ID NRC-2012-0071 when contacting the NRC about the availability of information regarding this document. You may access information related to this document, which the NRC possesses and are publicly available, using any of the following methods:

• Federal Rulemaking Web site: Go to http://www.regulations.gov and search for Docket ID NRC-2012-0071. Address questions about NRC dockets to Carol Gallagher; telephone: 301-492-3668; email: Carol.Gallagher@nrc.gov.

• NRC's Agencywide Documents Access and Management System (ADAMS): You may access publicly available documents online in the NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. TSTF-522, Revision 0, includes a model application and is available in ADAMS under Accession No. ML100890316. The model safety evaluation (SE) of TSTF-522, Revision 0, is available under ADAMS Accession No. ML12158A464. The NRC staff disposition of comments received to the Notice of Opportunity for Public Comment announced in the Federal Register on March 22, 2012 (77 FR 16869), is available under ADAMS Accession No. ML12158A513.

• NRC's PDR: You may examine and purchase copies of public documents at the NRC's PDR, Room O1-F21, One White Flint North, 11555 Rockville Pike, Rockville, Maryland 20852.

FOR FURTHER INFORMATION CONTACT: Ms. Michelle C. Honcharik, Senior Project Manager, Office of Nuclear Reactor Regulation, U.S. Nuclear Regulatory Commission, Washington, DC 20555-0001; telephone 301-415-1774 or email at Michelle.Honcharik@nrc.gov or Mr. Matthew Hamm, Office of Nuclear Reactor Regulation, U.S. Nuclear Regulatory Commission, Washington, DC 20555-0001; telephone 301-415-1472 or email Matthew.Hamm@nrc.gov.

SUPPLEMENTARY INFORMATION: TSTF-522, Revision 0, is applicable to all nuclear reactor power plants. The proposed change revises the surveillance requirements (SRs) which currently require operating the ventilation system for at least 10 continuous hours with the heaters operating every 31 days or at a frequency controlled in accordance with the surveillance frequency control program (SFCP). The SRs would be changed to require at least 15 continuous minutes of ventilation system operation with heaters operating every 31 days or at a frequency controlled in accordance with the SFCP.

The NRC staff has reviewed the model application for TSTF-522 and has found it acceptable for use by licensees. Licensees opting to apply for this TS change are responsible for reviewing the NRC's staff SE and the applicable technical bases, providing any necessary plant-specific information, and assessing the completeness and accuracy of their license amendment request (LAR). The NRC will process each amendment application responding to the Notice of Availability according to applicable NRC rules and procedures.

The proposed change does not prevent licensees from requesting an alternate approach or proposing changes other than those proposed in TSTF-522, Revision 0. However, significant deviations from the approach recommended in this notice or the inclusion of additional changes to the license will require additional NRC staff review. This may increase the time and resources needed for the review or result in NRC staff rejection of the LAR. Licensees desiring significant deviations or additional changes should instead submit an LAR that does not claim to adopt TSTF-522, Revision 0.

Dated at Rockville, Maryland, this 12th day of September, 2012.
For the Nuclear Regulatory Commission.
Sheldon D. Stuchell,
Acting Chief, Licensing Processes Branch, Division of Policy and Rulemaking, Office of Nuclear Reactor Regulation.

[FR Doc. 2012-23208 Filed 9-19-12; 8:45 am]

BILLING CODE 7590-01-P